DEPARTMENT OF TRANSPORTATION

Federal Highway Administration

Buy America Waiver Notification

AGENCY: Federal Highway Administration (FHWA), U.S. Department of Transportation (DOT).

ACTION: Notice.

SUMMARY: This notice provides information regarding FHWA's finding that it is appropriate to grant a Buy America waiver to the Port of Los Angeles for procurement of fully locked coil carbon steel cables and their respective components, galvanized cylindrical sockets, galvanized spherical nuts, and galvanized fatigue resistant adjustable open spelter socket, with non-domestic iron and steel components for incorporation into the Port of Los Angeles-Rail Mainline/Wilmington Community & Waterfront Pedestrian Grade Separation Bridge Project.

DATES: The effective date of the waiver is February 7, 2026.

FOR FURTHER INFORMATION CONTACT: For questions about this notice, please contact Robert Mooney, FHWA Office of Infrastructure, 202-897-7549, or via email at robert.mooney@dot.gov. For legal questions, please contact James Esselman, FHWA Office of the Chief Counsel, 202-366-6181, or via email at james.esselman@dot.gov. Office hours for FHWA are from 8:00 a.m. to 4:30 p.m., E.T., Monday through Friday, except Federal holidays.

SUPPLEMENTARY INFORMATION:

Electronic Access

An electronic copy of this document may be downloaded from the Federal Register's home page at: www.FederalRegister.gov and the U.S. Government Publishing Office's database at: www.GovInfo.gov.

Background

FHWA's Buy America requirements at 23 United States Code (U.S.C.) section 313 and 23 Code of Federal Regulations (CFR) section 635.410(b)(1) provide that all steel and iron materials permanently incorporated into a project must be domestically manufactured. Under 23 U.S.C. 313(b)(2), FHWA may waive the application of its Buy America requirement for steel and iron when products are not produced in the United States in sufficient and reasonably available quantities of a satisfactory quality. This notice provides information regarding FHWA's finding that it is appropriate to grant the Port of Los Angeles a non-availability waiver for non-domestic fully locked coil carbon steel cables and their respective components.

Background on the Project: In 2024, DOT selected the Port of Los Angeles to receive a $5,000,000 competitive grant award under DOT's Fiscal Year 2023 Reconnecting Communities Pilot (RCP) Program for the Port's Rail Mainline/Wilmington Community & Waterfront Pedestrian Grade Separation Bridge Project (“Project”). The estimated total project cost is $62,620,000. The Project will construct a pedestrian bridge over two mainline freight tracks in the Port of Los Angeles, which can also accommodate emergency vehicles and connects the nearby Wilmington community with the Wilmington Waterfront. The waiver items are proposed to be incorporated into the Project.

Background on Waiver Request: The Port of Los Angeles submitted the Buy America waiver request on December 5, 2024, after completing a nationwide search for domestic Full Lock Coil Carbon Steel Cables that meet Buy America requirements and project specifications. The Port of Los Angeles contacted numerous domestic manufacturers of steel cables, and none reported the capability of producing the specified fully locked coil carbon steel cables and associated components. In addition, on December 4, 2024, in response to the Port of Los Angeles' supplier scouting request, as required by section 70916(c) of the Build America, Buy America Act (Pub. L. 117-58), the National Institute of Standards and Technology' Hollings Manufacturing Extension Partnership, reported that it had not identified a match for a domestic manufacturer of the required materials.

In response to the Port of Los Angeles request, on August 29, 2025, FHWA posted a notice on its website, https://www.fhwa.dot.gov/construction/contracts/waivers.cfm?id=182, seeking comment on whether the proposed waiver would be appropriate. FHWA received one comment in response to the waiver notice. The commenter did not offer any specific information on the domestic availability of compliant products, nor did the commenter suggest specifications the Port of Los Angeles could take to maximize its use of goods, products, and materials produced in the United States. Based on the Port of Los Angeles' research and the lack of domestic manufacturers identified during the waiver notice period, FHWA concludes there is good cause to find that a waiver of FHWA's Buy America requirements is appropriate for the products the Port of Los Angeles identified for the Project in its waiver request.

Timing and Need for a Waiver: The Port of Los Angeles explained that corrosion of steel components was identified as a significant concern due to the bridge location in a marine environment. Therefore, the use of extreme corrosion coating is necessary to minimize corrosion over the life of the structure. Fully locked cables were specified for the structure because the outer layer of the cable consists of Z-shaped wires that provide a consistently closed surface, which protects the core against corrosion over the design life of the cable.

Finding and Request for Comments

Based on all the information available to the Agency, FHWA concludes there are no Buy America-compliant versions of the waiver items and is therefore waiving its Buy America requirements set forth at 23 U.S.C. 313 and 23 CFR 635.410 for those items as incorporated in the Port of Los Angeles' Rail Mainline/Wilmington Community & Waterfront Pedestrian Grade Separation Bridge project. This waiver includes only the specified fully locked coil carbon steel cable and their respective attachments identified in the waiver request and supporting documents included on FHWA's website and is limited to purchases by the Port of Los Angeles, its contractors, or its subcontractors (of whatever tier) of the waiver items for the Rail Mainline/Wilmington Community & Waterfront Pedestrian Grade Separation Bridge Project. The waiver does not apply to purchases made for any other products or projects.

The Port of Los Angeles and its contractors and subcontractors involved in the procurement of the relevant fully locked coil carbon steel cable and their respective attachments are reminded of the need to comply with the Cargo Preference Act in 46 CFR part 38, if applicable.

In accordance with the provisions of Section 117 of the SAFETEA-LU Technical Corrections Act of 2008 (Pub. L. 110-244, 122 Stat. 1572), FHWA is providing this notice as its finding that a waiver of Buy America requirements is appropriate. FHWA invites public comment on this finding for an additional 5 days following the effective date of the finding. Comments may be submitted to FHWA's website via the link provided to the waiver page noted above.

Authority: 23 U.S.C. 313; Pub. L. 118-42; 23 CFR 635.410.

Sean McMaster,
Administrator, Federal Highway Administration.

[FR Doc. 2026-02332 Filed 2-5-26; 8:45 am]

BILLING CODE 4910-22-P